DEPARTMENT OF AGRICULTURE

Food Safety and Inspection Service

[Docket No. 2007-0022]

9 CFR Parts 304, 308, 310, 320, 327, 381, 416, and 417

Availability of the Report: Review of the Pathogen Reduction; Hazard Analysis and Critical Control Point Systems Final Rule Pursuant to Section 610 of the Regulatory Flexibility Act, as Amended

AGENCY: Food Safety and Inspection Service, USDA.

ACTION: Notice of availability.

SUMMARY: The Food Safety and Inspection Service (FSIS) is announcing the availability of its report entitled, “Review of the Pathogen Reduction; Hazard Analysis and Critical Control Point Systems Final Rule Pursuant to Section 610 of the Regulatory Flexibility Act, As Amended.”

ADDRESSES: The report is available in Room 102, Cotton Annex, 300 12th Street, SW., Washington, DC 20250-3700, between 8:30 a.m. and 4:30 p.m., Monday through Friday, except Federal holidays. It is also available on the Internet at http://www.fsis.usda.gov/regulations_&_policies/2007_Proposed_Rules_Index/index.asp.

FOR FURTHER INFORMATION CONTACT: John O'Connell, Regulations and Petitions Policy Staff, Office of Policy, Program, and Employee Development, FSIS, U.S. Department of Agriculture, Room 112, Cotton Annex Building, 300 12th Street, SW., Washington, DC 20250-3700; telephone (202) 720-0345, fax (202) 690-0486.

SUPPLEMENTARY INFORMATION:

Background

FSIS has been delegated the authority to exercise the functions of the Secretary of Agriculture as specified in the Federal Meat Inspection Act (FMIA) (21 U.S.C. 601, et seq.), the Poultry Products Inspection Act (PPIA) (21 U.S.C. 451, et seq.), and the Egg Products Inspection Act (EPIA) (21 U.S.C. 1031, et seq.). These statutes provide that FSIS is to protect the public by verifying that meat, poultry, and egg products are safe, wholesome, unadulterated, and properly labeled and packaged.

Section 610 of the Regulatory Flexibility Act (RFA), as amended (5 U.S.C. 601-612), requires that Federal agencies conduct a review of their rules that have a significant economic impact upon a substantial number of small entities. Agencies are required to conduct the review by the end of 10 years after the implementation of such a rule.

The purpose of the review is to determine whether the rule should be continued without change, or should be amended or rescinded, consistent with the stated objectives of applicable statutes, to minimize any significant economic impact upon a substantial number of small entities.

On January 28, 2005, FSIS published a schedule of its planned reviews in the Federal Register (70 FR 4047)—Regulatory Flexibility Act; Amended Plan for Reviewing Regulations Under Section 610 Requirements. According to the schedule, the Agency would first review the Pathogen Reduction; Hazard Analysis and Critical Control Point (PR/HACCP) Systems final rule (61 FR 38806).

FSIS assembled a team that conducted a review of the regulations implemented by the PR/HACCP rule. The team examined the five factors enumerated by Section 610 of the RFA: (1) The continued need for the rule; (2) the nature of complaints or comments received from the public concerning the rule; (3) the complexity of the rule; (4) the extent to which the rule overlaps, duplicates, or conflicts with other Federal rules and, to the extent feasible, with State and local government rules; and (5) the length of time since the rule has been evaluated or the degree to which technology, economic conditions, or other factors have changed in the area affected by the rule. The team also looked at the economic impact of the rule on the meat and poultry industries.

As part of its effort to satisfy the requirements of Section 610 of the RFA, FSIS published on August 12, 2005, a notice in the Federal Register (70 FR 47147) requesting comments from the public on the impact of the PR/HACCP rule and on the relevant factors enumerated by Section 610 of the RFA. The Agency received 19 comments from the public concerning the PR/HACCP rule. The Agency also conducted a survey of nine small and very small meat and poultry establishments in order to ensure that it received comments on the PR/HACCP rule from small and very small businesses affected by the rule.

FSIS summarized the comments it received and gives its response to these comments in the review report. In response to the comments and the review that the team conducted, the report recommends that the Agency take several steps to enhance and strengthen its outreach to small and very small businesses regarding HACCP and pathogen reduction efforts. Based on its analysis of the comments, FSIS determined that it was not necessary to make any changes to the PR/HACCP rule.

Additional Public Notification

Public awareness of all segments of rulemaking and policy development is important. Consequently, in an effort to ensure that the public and in particular minorities, women, and persons with disabilities, are aware of this notice, FSIS will announce it on-line through the FSIS Web page located at http://www.fsis.usda.gov/regulations/2007_Proposed_Rules_Index/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC on August 27, 2007.
Alfred Almanza,
Administrator.

[FR Doc. E7-17212 Filed 8-30-07; 8:45 am]

BILLING CODE 3410-DM-P